DEPARTMENT OF AGRICULTURE

Forest Service

Notice of Proposed New Fee Sites; Federal Lands Recreation Enhancement Act

AGENCY: Forest Service.

ACTION: Notice of proposed new fee sites.

SUMMARY: The National Forests in North Carolina are proposing to charge new fees at six recreation sites. All sites have recently been reconstructed or amenities are being added to improve services and experiences. Fees are assessed based on the level of amenities and services provided, cost of operation and maintenance, market assessment, and public comment. Funds from fees would be used for the continued operation and maintenance of these recreation sites.

DATES: Send any comments about these fee proposals by August 6, 2018 so comments can be compiled, analyzed and shared with a Recreation Resource Advisory Committee. New fees would begin after April 1, 2018.

ADDRESSES: ATTN: Recreation Fee Proposals, National Forests in North Carolina, 160A Zillicoa Street, Asheville, NC 28801.

FOR FURTHER INFORMATION CONTACT: Logan Free, Recreation Fee Coordinator, 828-257-4256, NFsNCfeeproposals@fs.fed.us. Information about proposed fee changes can also be found on the National Forests in North Carolina website: https://www.fs.usda.gov/goto/nfsnc/2017recfeeproposals.

SUPPLEMENTARY INFORMATION: The Federal Recreation Lands Enhancement Act (Title VII, Pub. L. 108-447) directed the Secretary of Agriculture to publish a six month advance notice in the Federal Register whenever new recreation fee areas are established. Sites that are proposed for new fees include: Dry Falls proposed at $3 per vehicle or $15 annual pass (useable at Whiteside Mountain and Whitewater Falls), Atoah Shooting Range proposed at $5 per person or $30 annual pass (useable at all Nantahala National Forest shooting ranges), Cheoah Point Beach day use area proposed at $5 per vehicle or $30 annual pass, Wine Springs Horse Camp proposed at $10 per site, and McCall Cabin proposed at $200 per week on the Nantahala National Forest; Wolf Ford Horse Camp proposed at $10 per site on the Pisgah National Forest. Proposed fees at these recreation sites will be invested in site improvements that address sanitation and visitor safety, improve visitor comfort and convenience, reduce deferred maintenance, and improve the overall recreation experiences of the public. These new fees are part of a larger fee proposal available for review at https://www.fs.usda.gov/nfsnc/2017recfeeproposals.

Once public involvement is complete, these new fees will be reviewed by a Recreation Resource Advisory Committee prior to a final decision and implementation.

Dated: May 17, 2018.
Glenn Casamassa,
Associate Deputy Chief, National Forest System.

[FR Doc. 2018-14403 Filed 7-3-18; 8:45 am]

BILLING CODE 3411-15-P